DEPARTMENT OF TRANSPORTATION

Federal Aviation Administration

14 CFR Part 71

[Docket No. FAA-2003-14707; Airspace Docket No. 03-ASO-3]

Establishment of Class E2 Airspace, Amendment of Class E5 Airspace; Waycross, GA

AGENCY: Federal Aviation Administration (FAA), DOT.

ACTION: Final rule.

SUMMARY: This action establishes Class E2 airspace and amends Class E5 airspace at Waycross, GA. The Ware County Airport Authority has requested Class E2 surface area airspace at Waycross-Ware County Airport to provide airport operations within controlled airspace. Jacksonville Air Route Traffic Control Center (ARTCC) will provide air traffic services at the airport and a federally commissioned automated weather observing system is in operation. In order to conduct these operations, Class E2 surface area must be established. This action will establish Class E2 surface area airspace within a 4.1-mile radius of the airport.

As a result of an evaluation, it has been determined a modification should be made to the Waycross, GA, Class E5 airspace area to contain the Nondirectional Radio Beacon (NDB) Runway (RWY) 18 Standard Instrument Approach Procedure (SIAP) to Waycross-Ware County Airport. Controlled airspace extending upward from 700 feet Above Ground Level (AGL) is needed to contain the SIAP. Additionally, the 7-mile radius of the Waycross-Ware County Airport will be reduced to a 6.6-mile radius.

DATES: 0901 UTC, July 10, 2003.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

History

On April 15, 2003, the FAA proposed to amend part 71 of the Federal Aviation Regulations (14 CFR part 71) by establishing Class E2 airspace and amending Class E5 airspace at Waycross, GA, (68 FR 18173). This action provides adequate Class E2 and Class E5 airspace for IFR operations at Waycross-Ware County Airport. Designations for Class E are published in FAA Order 7400.9K, dated August 30, 2002, and effective September 16, 2002, which is incorporated by reference in 14 CFR part 71.1. The Class E designations listed in this document will be published subsequently in the Order.

Interested parties were invited to participate in this rulemaking proceeding by submitting written comments on the proposal to the FAA. No comments objecting to the proposal were received.

The Rule

This amendment to part 71 of the Federal Aviation Regulations (14 CFR part 71) establishes Class E2 airspace and amends Class E5 airspace at Waycross, GA.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9K, Airspace Designations and Reporting Points, dated August 30, 2002, and effective September 16, 2002, is amended as follows:

Paragraph 6002 Class E Airspace Designated as Surface Areas.

* * * * *

ASO GA E2 Waycross, GA [New]

Waycross-Ware County Airport, GA

(Lat. 31°14′57″ N, long. 82°23′43″ W)

Waycross VORTAC

(Lat. 31°16′10″ N, long. 82°33′23″ W)

Within a 4.1-mile radius of the Waycross-Ware County Airport, within 1.2 miles each side of the 099° radial from the Waycross VORTAC, extending from the 4.1-mile radius to 4.7 miles west of the airport.

* * * * *

ASO GA E5 Waycross [Revised]

Waycross-Ware County Airport, GA

(Lat. 31°14′57″ N, long. 82°23′43″ W)

WIKET NDB

(Lat. 31°19′32″ N, long. 82°23′53″ W)

That airspace extending upward from 700 feet above the surface within a 6.6-mile radius of Waycross-Ware County Airport, and within 4 miles west and 8 miles east of the 003° bearing from the WIKET NDB extending from the 6.6-mile radius to 16 miles north of the WIKET NDB; excluding that airspace within the Alma, GA, Class E airspace area.

* * * * *

Issued in College Park, Georgia on May 27, 2003.
Walter R. Cochran,
Acting Manager, Air Traffic Division, Southern Region.

[FR Doc. 03-14068 Filed 6-3-03; 8:45 am]

BILLING CODE 4910-13-M